DEPARTMENT OF HOUSING AND URBAN DEVELOPMENT

[Docket No. FR-4652-N-01]

Notice of Proposed Information Collection for Public Comment; Allocation of Operating Subsidies Under the Operating Fund Formula: Data Collection

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: April 17, 2001.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Allocation of Operating Subsidies under the Operating Fund Formula: Data Collection (formerly the performance Funding System (PFS)).

OMB Control Number: 2577-0029.

Description of the need for the information and proposed use: Statute requires that HUD implement an interim Operating Fund Formula for determining the payment of operating subsidies to public housing agencies (PHAs) for the operation and management of public housing. Section 9(f) establishes an Operating Fund for the purposes of making assistance available to PHAs; assistance made available from the Operating Fund is determined using a formula developed through negotiated remaking procedures. PHAs will compute operating subsidy eligibility by using forms prescribed by HUD as follows: Operating Fund Formula Data Collection (HUD-52720-A); Operating Fund Calculation of Formula and Delta (HUD-52720-B); Range Test and Determination of Base Year Expense Level (HUD-52720-C); Direct Disbursement Payment Schedule Data Operating Subsidies Public Housing Program (HUD-52721); Calculation of Allowable Utilities Expense Level (HUD-52722-A); Adjustment for Utility Consumption and Rates (HUD-52722-B); Operating Fund Calculation of Operating Subsidy (HUD-52723); Calculation of Subsidies for Operation (HUD-53087). Where appropriate, references to the Performance Funding System (PFS) have been changed to the operating fund; all references to Indian Housing Authorities (IHAs) have been removed. Line numbers have been revised to start at “01” on Form HUD-52722-B. Form HUD-53087 is being reinstated; all references to Section 23 Leased Housing have been removed. In the third quarter of FY 2001, HUD plans to start automating in phases all forms relating to operating subsidy calculations and the operating budget in the Public and Indian Housing Information Center (PIC).

Agency form number: HUD-52720-A, HUD-52720-B, HUD-52720-C, HUD-52721, HUD-52722-A, HUD-52722-B, HUD-52723, HUD-53087.

Members of affected public: State, Local government; PHAs.

Estimation of the total number of hours needed to prepare the information collection including number of respondents, frequency of response, and hour of response: 3,200 respondents, 1 response per respondent (eight forms) 25,600 total responses, .45 average time per response, 11,520 hours total burden.

Status of the proposed information collection: Extension; reinstatement (HUD-53087).

Authority: Section 3506 of the Paperwork Reduction Act of 1995, 44 U.S.C. Chapter 35, as amended.

Dated: February 9. 2001.
Gloria Cousar,
Acting General Deputy Assistant Secretary for Public and Indian Housing.

BILLING CODE 4210-33-M

[FR Doc. 01-3905 Filed 2-15-01; 8:45 am]

BILLING CODE 4210-33-C